DEPARTMENT OF ENERGY

Federal Energy Regulatory Commission

[Project No. 14114-000]

Reliable Storage 2, LLC; Notice of Preliminary Permit Application Accepted for Filing and Soliciting Comments, Motions To Intervene, and Competing Applications

On March 18, 2011, Reliable Storage 2, LLC filed an application for a preliminary permit, pursuant to section 4(f) of the Federal Power Act (FPA), proposing to study the feasibility of the Rockaway Pumped Storage Hydroelectric Project that would use water from the Mount Hope Mine in Rockaway Township, Morris County, New Jersey. The sole purpose of a preliminary permit, if issued, is to grant the permit holder priority to file a license application during the permit term. A preliminary permit does not authorize the permit holder to perform any land-disturbing activities or otherwise enter upon lands or waters owned by others without the owners' express permission.

The proposed pumped storage project would be comprised of four stages of developments, each with a powerhouse and an upper and lower reservoir. Some of the reservoirs would be included in more than one development; with a lower reservoir for one development serving as an upper reservoir for another.

(a) Stage 1 of the project would consist of the following features: (1) A new upper reservoir with a surface area of 45 acres on a 60 acre upland site west of Mount Hope Lake and a total storage capacity of 3,500 to 4,000 acre-feet. The upper reservoir would be filled with water pumped out of the Mount Hope Mine Complex and have a normal maximum water surface elevation of 900 feet mean sea level (msl). The Mount Hope inactive mine would provide access to the lower reservoir located at 1,000 feet below the ground surface; (2) a reinforced concrete intake/outlet structure capable of discharging 1,500 cubic feet per second (cfs); (3) a 10-foot-diameter, 1,300-foot-long reinforced concrete vertical intake shaft; (4) an 8-foot-diameter underground penstock; (5) a powerhouse approximately 1,300 feet below ground level containing one reversible pump turbine with a total installed generating capacity of 250 megawatts (MW); (6) a transformer hall; (7) a lower reservoir; (8) a ventilation shaft and ventilation building at the northern end of the lower reservoir; and (9) various ancillary access shafts and tunnels. The proposed Stage 1 would generate over 500 gigawatt-hours per year.

(b) Stage 2 of the project would consist of the following features: (1) The lower reservoir utilized in Stage 1, located 1,000 feet below the ground surface, would serve as the upper reservoir in Stage 2 and would have a total storage capacity of 5,000 to 5,800 acre-feet. The upper reservoir would be filled with water pumped out of the Mount Hope Mine Complex and have a normal maximum water surface elevation at 900 feet below the ground surface. The Mount Hope inactive mine would provide access to the lower reservoir located at 1,700 feet below the ground surface; (2) a reinforced concrete intake/outlet structure capable of discharging 1,500 cfs; (3) a 10-foot-diameter, 1,000-foot-long reinforced concrete vertical intake shaft; (4) an 8-foot-diameter underground penstock; (5) a powerhouse approximately 2,000 feet below ground containing one reversible pump turbine with a total installed generating capacity of 250 MW; (6) a transformer hall; (7) a lower reservoir; (8) a ventilation shaft and ventilation building at the northern end of the lower reservoir; and (9) various ancillary access shafts and tunnels. The proposed Stage 2 would generate over 500 gigawatt-hours per year.

(c) Stage 3 of the project would consist of the following features: (1) The lower reservoir utilized in Stage 2, located 1,700 feet below the ground surface, would serve as the upper reservoir in Stage 3 and would have a total storage capacity of 4,000 to 5,000 acre-feet. The upper reservoir would be filled with water pumped out of the Mount Hope Mine Complex and have a normal maximum water surface elevation at 1,600 feet below the ground surface. The Mount Hope inactive mine would provide access to the lower reservoir located at 2,500 feet below the ground surface; (2) a reinforced concrete intake/outlet structure capable of discharging 1,500 cfs; (3) a 10-foot-diameter, 1,100-foot-long reinforced concrete vertical intake shaft; (4) an 8-foot-diameter underground penstock; (5) a powerhouse approximately 2,800 feet below ground containing one reversible pump turbine with a total installed generating capacity of 250 MW; (6) a transformer hall; (7) a lower reservoir with a storage capacity of 4,200 to 5,000 acre-feet; (8) a ventilation shaft and ventilation building at the northern end of the lower reservoir; and (9) various ancillary access shafts and tunnels. The proposed Stage 3 would generate over 500 gigawatt-hours per year.

(d) Stage 4 would be a separate development with identical features as of Stage 3, including the following: (1) The lower reservoir utilized in Stage 2, located 1,700 feet below the ground surface, would serve as the upper reservoir in Stage 4 and would have a total storage capacity of 4,000 to 5,000 acre-feet. The upper reservoir would be filled with water pumped out of the Mount Hope Mine Complex and have a normal maximum water surface elevation at 1,600 feet below the ground surface. The Mount Hope inactive mine would provide access to the lower reservoir located at 2,500 feet below the ground surface; (2) a reinforced concrete intake/outlet structure capable of discharging 1,500 cfs; (3) a 10-foot-diameter, 1,100-foot-long reinforced concrete vertical intake shaft; (4) an 8-foot-diameter underground penstock; (5) a powerhouse approximately 2,800 feet below ground containing a reversible pump turbine with a total installed generating capacity of 250 MW; (6) a transformer hall; (7) a lower reservoir which consist of the lower reservoir of Stage 3; (8) a ventilation shaft and ventilation building at the northern end of the lower reservoir; and (9) various ancillary access shafts and tunnels. The proposed Stage 4 would generate over 500 gigawatt-hours per year.

The total rated capacity of the turbines and generators of the project is 1,000 MW. Upon completion, the proposed project would generate over 2,000 gigawatt-hours annually. The proposed project would also include two parallel 10.60-mile-long, 500-kilovolt transmission lines interconnecting with the proposed Jefferson Substation, located approximately 5.3 miles north-northwest of Mt. Hope Lake. The transmission line right-of-way would parallel an existing transmission line owned by Public Services Electric and Gas Company for 4.3 miles and would traverse mostly undeveloped forest lands, two lakes and five streams. The primary transmission line of the proposed project would be located in part on federal land. Specifically, the transmission line would traverse a portion of the northern and eastern edge of the U.S. Army's Picatinny Arsenal for a total of approximately 2.4 miles.

Applicant Contact: Ms. Ramya Swaminathan, Reliable Storage, LLC, 239 Causeway Street, Boston, MA 02114; phone: (978) 252-7631.

FERC Contact: Monir Chowdhury; phone: (202) 502-6736.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-14114-000) in the docket number field to access the document. For assistance, contact FERC Online Support.

Dated: May 17, 2011.
Kimberly D. Bose,
Secretary.

[FR Doc. 2011-12605 Filed 5-20-11; 8:45 am]

BILLING CODE 6717-01-P